DEPARTMENT OF THE INTERIOR

National Park Service

Notice of Inventory Completion: U.S. Department of the Interior, Bureau of Indian Affairs, Washington, DC and University of Colorado Museum, Boulder, CO

AGENCY: National Park Service, Interior.

ACTION: Notice.

Notice is here given in accordance with the Native American Graves Protection and Repatriation Act (NAGPRA), 25 U.S.C. 3003, of the completion of an inventory of human remains and associated funerary objects in the control of the U.S. Department of the Interior, Bureau of Indian Affairs, Washington, DC and in the possession of the University of Colorado Museum, Boulder, CO. The human remains were removed from the Crow Indian Reservation, MT.

This notice is published as part of the National Park Service's administrative responsibilities under NAGPRA, 25 U.S.C. 3003 (d)(3). The determinations in this notice are the sole responsibility of the museum, institution, or Federal agency that has control of the Native American human remains. The National Park Service is not responsible for the determinations in this notice.

A detailed assessment of the human remains was made by University of Colorado Museum professional staff in consultation with the Bureau of Indian Affairs professional staff and representatives of the Crow Tribe of Montana.

In 1912, human remains representing a minimum of one individual were removed from the Crow Indian Reservation, 18 miles south of Billings, MT, near Pryor Creek, by Ralph Hubbard. Mr. Hubbard later sent the human remains to the University of Colorado Museum (Catalog number 4799). No known individual was identified. No associated funerary objects are present.

Based on the provenience and physical morphology, the human remains are those of a Native American adult male. Based on the provenience, the human remains are Crow. Descendants of the Crow are members of the Crow Tribe of Montana.

Officials of the U.S. Department of the Interior, Bureau of Indian Affairs and University of Colorado Museum have determined that, pursuant to 25 U.S.C. 3001 (9-10), the human remains described above represent the physical remains of one individual of Native American ancestry. Officials of the U.S. Department of the Interior, Bureau of Indian Affairs and University of Colorado Museum also have determined that, pursuant to 25 U.S.C. 3001 (2), there is a relationship of shared group identity that can be reasonably traced between the Native American human remains and the Crow Tribe of Montana.

Representatives of any other Indian tribe that believes itself to be culturally affiliated with the human remains should contact Donald Sutherland, Acting Chief, Division of Environmental and Cultural Resources Management, 1849 C St. NW, Washington, DC 20240, telephone (703) 390-6470, or Steve Lekson, Curator of Anthropology, University of Colorado Museum, Henderson Building, Campus Box 218, Boulder, CO 80309-0218, telephone (303) 492-6671, before June 18, 2007. Repatriation of the human remains to the Crow Tribe of Montana may proceed after that date if no additional claimants come forward.

The University of Colorado Museum is responsible for notifying the Crow Tribe of Montana that this notice has been published.

Dated: April 4, 2007.
Sherry Hutt,
Manager, National NAGPRA Program.

[FR Doc. E7-9451 Filed 5-16-07; 8:45 am]

BILLING CODE 4312-50-S